DEPARTMENT OF AGRICULTURE

Food and Nutrition Service

Agency Information Collection Activities: Modernizing Channels of Communication With SNAP Participants

AGENCY: Food and Nutrition Service (FNS), USDA.

ACTION: Notice.

SUMMARY: In accordance with the Paperwork Reduction Act of 1995, this notice invites the general public and public agencies to comment on this proposed information collection for the Modernizing Channels of Communication with SNAP Participants study. This is a new information collection.

The primary purpose of the study is to highlight best practices and lessons learned from various mobile communication strategies (MCS) implemented by State Supplemental Nutrition Assistance Program (SNAP) agencies. This examination will help FNS and States improve communication and identify best practices that lead to improved program outcomes.

DATES: Written comments must be received on or before September 3, 2019.

ADDRESSES: Comments may be submitted through the Federal eRulemaking Portal; go to http://www.regulations.gov and follow the online instructions for submitting comments electronically. Comments may also be sent to Andrew Burns, Food and Nutrition Service, U.S. Department of Agriculture, 3101 Park Center Drive, Room 1014, Alexandria, VA 22302 or submitted via fax to the attention of Andrew Burns at 703.305.2576 or via email to Andrew.Burns@usda.gov.

All responses to this notice will be summarized and included in the request for Office of Management and Budget approval. All comments will be a matter of public record.

FOR FURTHER INFORMATION CONTACT: Requests for additional information or copies of this information collection should be directed to Andrew Burns at 703.305.1091 or Andrew.burns@usda.gov.

SUPPLEMENTARY INFORMATION: Comments are invited on the following topics: (1) Whether the proposed information collection is necessary for the proper performance of the agency's functions, including whether the information shall have practical utility; (2) the accuracy of the agency's estimate of the burden of the proposed information collection, including the validity of the methodology and assumptions used; (3) ways to enhance the quality, utility, and clarity of the information to be collected; and (4) ways to minimize the burden of the information collection on those who are to respond, including use of appropriate automated, electronic, mechanical, or other technological collection techniques or other forms of information technology (IT).

Title: Modernizing Channels of Communication with SNAP Participants.

Form Number: N/A.

OMB Number: 0584-NEW.

Expiration Date: Not yet determined.

Type of Request: New information collection.

Abstract: Section 17 [7 U.S.C. 2026] (a)(1) of the Food and Nutrition Act of 2008, as amended, provides general legislative authority for the planned data collection. It authorizes the Secretary of Agriculture to enter into contracts with private institutions to undertake research that will help improve the administration and effectiveness of SNAP in delivering nutrition-related benefits.

In recent years, many States have enhanced their use of MCS to enable SNAP participants to access information about SNAP, receive alerts and notifications, and perform certain case management functions. These MCS offer SNAP participants an alternative means of interacting with SNAP agencies and have the potential to improve customer access and streamline case management activities. While there is a high level of variability in MCS features and functionality across States, MCS has the potential to assist with the following activities:

1. Clients Providing Information to States

Applying or recertifying activities: MCS can help with broad functions, such as providing an eligibility screener, or with more personalized activities, like scheduling an interview, submitting documentation, and checking an application's status.

Reporting changes: Participants can use MCS to report changes that may affect their case. This could include information like changes in household size or income, or, for individuals subject to work requirements, changes in work hours.

2. States Providing Information to Clients

Sending notifications: States can use MCS to provide notifications to participants, including identifying verifications needed to process an application, updating office closures, and informing participants about account changes.

Responding to client inquiries: MCS can be used to answer frequently asked questions, link participants to community partners or resources like food banks or workforce development centers, respond to individual questions, and facilitate online chatting with eligibility workers.

Managing benefits and electronic benefit transfer (EBT): Participants can use MCS to manage their benefits and EBT cards.

USDA FNS has funded the Modernizing Channels of Communication With SNAP Participants study to highlight best practices and lessons learned from various MCS tested in State SNAP agencies in order to understand the range of functions available through MCS and assess clients' perspectives on how these tools affect their completion of typical tasks. This examination will help FNS and States improve communication and identify best practices that lead to improved program outcomes.

FNS identified four study objectives for this project. The first objective will present the landscape of mobile technology use for SNAP across the nation and provide a basis for selecting the MCS case study sites. The second and third objectives, which are the focus of this information collection request, are descriptive and will provide FNS with an understanding of the State processes, challenges, and distinct features of mobile technologies and the clients' experiences with these technologies. The fourth objective will summarize the best practices and lessons learned for States that choose to implement MCS moving forward.

The study will gather data through site visits to five States with SNAP MCS. Data will be collected in each of the five study States through (1) interviews with the State SNAP director, State MCS leads and other staff involved in MCS implementation, local SNAP office staff, and State software developers or IT staff; (2) interviews with community partners; (3) interviews with for-profit organizations (e.g., software developers or IT staff); and (4) focus groups with individuals/household (i.e., SNAP participants) and surveys of SNAP applicants and waiting room visitors. These data will provide information on States' and program recipients' use of MCS and client satisfaction with and perspectives on MCS.

Affected Public: (1) State, Local and Tribal governments, (2) Business-Not-for-profit business organizations, (3) Business for-profit organizations, and (4) Individuals/households.

Respondent Type groups identified includes—

1. State, Local and Tribal government: State SNAP director, State staff involved in MCS implementation, local SNAP office staff, and software developers or IT staff

2. Business-Not-for-profit business organizations: Community partners serving low-income populations and involved in MCS testing, implementation and/or outreach.

3. For-profit organizations: Third-party vendors (e.g., mobile app developers).

4. Individuals: SNAP participants who have used MCS, SNAP applicants who may or may not have used MCS, and SNAP eligible local office waiting room visitors, including MCS nonusers.

Estimated Number of Respondents: The total estimated number of respondents is 433 (67 State and local government staff, 10 for-profit organization staff, 20 not-for-profit staff (staff from community partners), 336 individuals (166 SNAP participants and 170 waiting room visitors)). Of the 433 contacted, 315 are estimated to be responsive and 118 are estimated to be nonresponsive. The breakout follows:

1. 67 State and local government staff: Of 6 State SNAP directors, 5 are estimated to be responsive; of 30 State staff involved in MCS implementation, 25 are estimated to be responsive; of 25 local SNAP office staff, 20 are estimated to be responsive; and of 6 software developers or IT staff, 5 are estimated to be responsive.

2. 20 Not-for-profit business (community partners): Of 20 community partners, 15 are estimated to be responsive.

3. 10 for-profit business staff: Of 10 software developers or IT staff from for-profit businesses, 5 are estimated to be responsive.

4. 336 Individuals (SNAP participants and applicants/waiting room visitors): Of 166 SNAP participants who use MCS, 120 are estimated to be responsive and 46 are estimated to be unresponsive. Of the 120 responsive participants who complete the screener, 90 will be eligible for the focus groups and 30 will be ineligible. Of 170 local SNAP office waiting room visitors, including MCS nonusers, 120 are estimated to be responsive and 50 will be unresponsive. Of the 120 who are responsive, 100 will be eligible for the questionnaire and 20 will be ineligible.

Estimated Number of Responses per Respondent: The average respondent will have 2.80 responses (based on 433 total annual respondents, with 315 responsive and 118 nonresponsive). See table 1 for the estimated number of responses per respondent for each type of respondent.

The breakout follows:

1. State and local government staff. The estimated number of responses per State and local government staff is 3.5:

• Out of 6 State SNAP directors, 5 State SNAP directors will respond to advance materials and scheduling and 1 State SNAP director will not respond. 5 responsive State SNAP directors will participate in an interview, and receive a follow-up email.

• Out of 15 State SNAP MCS leads, 10 State SNAP MCS leads will respond to advance materials and scheduling, and 5 will not respond. 10 will then participate in an introductory telephone interview, and receive a follow-up email. Later in the study, 25 MCS staff (the original 10 MCS leads and 15 other staff involved in MCS implementation) will respond to advance materials and scheduling for an in-person interview and 5 will not respond. 25 will participate in the interview, and receive a follow-up email.

• Out of 6 State software developers or IT staff, 5 State software developers or IT staff will respond to advance materials and scheduling and 1 will not respond. 5 will participate in an interview, and receive a follow-up email.

• Out of 25 local SNAP office staff, 20 local SNAP office staff will respond to advance materials and scheduling and 5 will not respond. 20 will participate in a group interview, and receive a follow-up email.

2. Not-for-profit businesses. The estimated number of responses per not-for-profit businesses is 3.0:

• Out of 25 community partners, 20 community partners will respond to advance materials and scheduling and 5 will not respond. 20 will participate in an interview, and receive a follow-up email.

3. For-profit businesses. The estimated number of responses per for-profit businesses is 3.0:

• Out of 10 software developers or IT staff from for-profit businesses, 5 software developers or IT staff from for-profit businesses will respond to advance materials and scheduling and 5 will not respond. 5 will participate in an interview, and receive a follow-up email.

4. Individuals. The estimated number of responses per individual is 2.7:

• Out of 166 SNAP participants, 120 individuals who are SNAP participants and MCS users will respond to advance materials and 46 will not respond. 120 individuals who complete an eligibility screener will be eligible and 46 will be ineligible. 120 eligible individuals will receive reminders and 90 will participate in a focus group.

• Out of 170 SNAP eligible visitors to SNAP local office waiting rooms, 120 visitors to SNAP local office waiting rooms, including MCS nonusers, will respond to a request to participate in an onsite questionnaire and 50 will not respond. Out of the 120 visitors who respond, 100 visitors will be eligible and will participate in the waiting room questionnaire and 20 will be ineligible.

Estimated Total Annual Responses: 1,114 (895 annual responses for responsive participants and 219 annual responses for nonresponsive participants).

Estimated Time per Response: The estimated time of response varies from 0.03 hours to 1.5 hours depending on respondent group and activity, as table 1 shows.

Estimated Total Annual Burden on Respondents: 315.02 hours (295.22 hours for responsive participants and 19.80 hours for nonresponsive participants). See table 1 for estimated total annual burden for each type of respondent.

Table 1—Estimated Total Burden per Respondent Type
Respondent category | Type of respondents | Instruments and activities | Sample size | Responsive: Number of respondents | Responsive: Frequency of response | Responsive: Total annual responses | Responsive: Hours per response | Responsive: Annual burden (hours) | Nonresponsive: Number of nonrespondents | Nonresponsive: Frequency of response | Nonresponsive: Total annual responses | Nonresponsive: Hours per response | Nonresponsive: Annual burden (hours) | Grand total annual burden estimate (hours)
State, local, and tribal government
State government | State SNAP director | Advance materials and preparation for interviews, including scheduling calls and reminders | 6.0 | 5.0 | 1.0 | 5.0 | 0.25 | 1.25 | 1.0 | 1.0 | 1.0 | 0.25 | 0.25 | 1.5
| State SNAP director | In-person semi-structured interview protocol | 5.0 | 5.0 | 1.0 | 5.0 | 1.00 | 5.00 | 0.0 | 0.0 | 0.0 | 0.00 | 0.00 | 5.0
| State SNAP director | Follow-up email | 5.0 | 5.0 | 1.0 | 5.0 | 0.03 | 0.17 | 0.0 | 0.0 | 0.0 | 0.00 | 0.00 | 0.2
| Subtotal for State SNAP director |  | 6.0 | 5.0 | 3.0 | 15.0 | 0.43 | 6.42 | 1.0 | 1.0 | 1.0 | 0.25 | 0.25 | 6.7
| State MCS leads | Advance materials and preparation for introductory interview, including scheduling calls and reminders | 15.0 | 10.0 | 1.0 | 10.0 | 0.25 | 2.50 | 5.0 | 1.0 | 5.0 | 0.25 | 1.25 | 3.8
| State MCS leads | Introductory call with State staff interview protocol | 10.0 | 10.0 | 1.0 | 10.0 | 1.00 | 10.00 | 0.0 | 0.0 | 0.0 | 0.00 | 0.00 | 10.0
| State MCS leads | Follow-up email | 10.0 | 10.0 | 1 | 10.0 | 0.03 | 0.33 | 0.0 | 0.0 | 0.0 | 0.00 | 0.00 | 0.3
| State MCS leads and other staff involved in MCS implementation | Advance materials and preparation for in-person interview, including scheduling calls and reminders | 30.0 | 25.0 | 1.0 | 25.0 | 0.25 | 6.25 | 5.0 | 1.0 | 5.0 | 0.25 | 1.25 | 7.5
| State MCS leads and other staff involved in MCS implementation | In-person semi-structured interview protocol | 25.0 | 25.0 | 1.0 | 25.0 | 1.50 | 37.50 | 0.0 | 0.0 | 0.0 | 0.00 | 0.00 | 37.5
| State MCS leads and other staff involved in MCS implementation | Follow-up email | 25.0 | 25.0 | 1 | 25.0 | 0.03 | 0.83 | 0.0 | 0.0 | 0.0 | 0.00 | 0.00 | 0.8
| Subtotal for State staff involved in MCS implementation |  | 30.0 | 25.0 | 4.2 | 105.0 | 0.55 | 57.42 | 5.0 | 2.0 | 10.0 | 0.25 | 2.50 | 59.9
| Software developers or IT staff | Advance materials and preparation for interview, including scheduling calls and reminders | 6.0 | 5.0 | 1.0 | 5.0 | 0.25 | 1.25 | 1.0 | 1.0 | 1.0 | 0.25 | 0.25 | 1.5
| Software developers or IT staff | In-person semi-structured interview protocol | 5.0 | 5.0 | 1.0 | 5.0 | 1.00 | 5.00 | 0.0 | 0.0 | 0.0 | 0.00 | 0.00 | 5.0
| Software developers or IT staff | Follow-up email | 5.0 | 5.0 | 1.0 | 5.0 | 0.03 | 0.17 | 0.0 | 0.0 | 0.0 | 0.00 | 0.00 | 0.2
| Subtotal for software developers or IT staff |  | 6.0 | 5.0 | 3.0 | 15.0 | 0.43 | 6.42 | 1.0 | 1.0 | 1.0 | 0.25 | 0.25 | 6.7
Local government | Local SNAP office staff | Advance materials and preparation for group interview, including scheduling calls and reminders | 25.0 | 20.0 | 1.0 | 20.0 | 0.25 | 5.00 | 5.0 | 1.0 | 5.0 | 0.25 | 1.25 | 6.3
| Local SNAP office staff | In-person semi-structured group interview protocol | 20.0 | 20.0 | 1.0 | 20.0 | 1.00 | 20.00 | 0.0 | 0.0 | 0.0 | 0.00 | 0.00 | 20.0
| Local SNAP office staff | Follow-up email | 20.0 | 20.0 | 1.0 | 20.0 | 0.03 | 0.67 | 0.0 | 0.0 | 0.0 | 0.00 | 0.00 | 0.7
| Subtotal for local SNAP office staff |  | 25.0 | 20.0 | 3.0 | 60.0 | 0.43 | 25.67 | 5.0 | 1.0 | 5.0 | 0.25 | 1.25 | 26.9
State and local government subtotal | 67.0 | 55.0 | 3.5 | 195.0 | 0.49 | 95.92 | 12.00 | 1.42 | 17.00 | 1.00 | 4.25 | 100.2
Businesses
Business For-Profit | Software developers or IT staff | Advance materials and preparation for interview, including scheduling calls and reminders | 10.0 | 5.0 | 1.0 | 5.0 | 0.25 | 1.25 | 5.0 | 1.0 | 5.0 | 0.25 | 1.25 | 2.5
| Software developers or IT staff | In-person semi-structured interview protocol | 5.0 | 5.0 | 1.0 | 5.0 | 1.00 | 5.00 | 0.0 | 0.0 | 0.0 | 0.00 | 0.00 | 5.0
| Software developers or IT staff | Follow-up email | 5.0 | 5.0 | 1.0 | 5.0 | 0.03 | 0.17 | 0.0 | 0.0 | 0.0 | 0.00 | 0.00 | 0.2
| Subtotal for for-profit businesses |  | 10.0 | 5.0 | 3.0 | 15.0 | 0.43 | 6.42 | 5.0 | 1.0 | 5.0 | 0.25 | 1.25 | 7.7
Business Not-For-Profit | Community partners | Advance materials and preparation for interview, including scheduling calls and reminders | 20.0 | 15.0 | 1.0 | 15.0 | 0.25 | 3.75 | 5.0 | 1.0 | 5.0 | 0.25 | 1.25 | 5.0
| Community partners | In-person semi-structured interview protocol | 15.0 | 15.0 | 1.0 | 15.0 | 1.00 | 15.00 | 0.0 | 0.0 | 0.0 | 0.00 | 0.00 | 15.0
| Community partners | Follow-up email | 15.0 | 15.0 | 1.0 | 15.0 | 0.03 | 0.50 | 0.0 | 0.0 | 0.0 | 0.00 | 0.00 | 0.5
| Subtotal for Not-for-profit businesses |  | 20.0 | 15.0 | 3.0 | 45.0 | 0.43 | 19.25 | 5.0 | 1.0 | 5.0 | 0.25 | 1.25 | 20.5
Business subtotal | 30.0 | 20.0 | 3.0 | 60.0 | 0.43 | 25.67 | 10.0 | 1.0 | 10.0 | 0.50 | 2.50 | 28.2
Individuals/Households
SNAP Participants MCS Users | SNAP participants/MCS users | Recruitment materials | 166.0 | 120.0 | 1.0 | 120.0 | 0.03 | 3.60 | 46.0 | 1.0 | 46.0 | 0.03 | 1.38 | 5.0
| SNAP participants/MCS users | Eligibility screener | 166.0 | 120.0 | 1.0 | 120.0 | 0.17 | 20.00 | 46.0 | 1.0 | 46.0 | 0.17 | 7.67 | 27.7
| Eligible SNAP participants/MCS users | Reminders | 120.0 | 90.0 | 1.0 | 90.0 | 0.03 | 2.70 | 30.0 | 1.0 | 30.0 | 0.03 | 0.90 | 3.6
| Eligible SNAP participants/MCS users | In-person focus group protocol, consent form, demographic questionnaire | 90.0 | 90.0 | 1.0 | 90.0 | 1.50 | 135.00 | 0.0 | 0.0 | 0.0 | 0.00 | 0.00 | 135.0
| SNAP participants/MCS users subtotal |  | 166.0 | 120.0 | 3.5 | 420.0 | 0.38 | 161.30 | 46.0 | 2.7 | 122.0 | 0.08 | 9.95 | 171.2
SNAP Eligible Individuals | SNAP eligible in Local office waiting room visitors/MCS nonusers | In-person recruitment to participate | 170.0 | 120.0 | 1.0 | 120.0 | 0.03 | 4.00 | 50.0 | 1.0 | 50.0 | 0.03 | 1.50 | 5.5
| SNAP Eligible in Local SNAP office waiting room visitors/MCS nonusers | Waiting room questionnaire | 120.0 | 100.0 | 1.0 | 100.0 | 0.08 | 8.33 | 20.0 | 1.0 | 20.0 | 0.08 | 1.60 | 9.9
| SNAP eligible subtotal |  | 170.0 | 120.0 | 1.8 | 220.0 | 0.06 | 12.33 | 50.0 | 1.4 | 70.0 | 0.04 | 3.10 | 15.4
Individuals subtotal | 336.0 | 240 | 2.7 | 640.0 | 0.27 | 173.63 | 96.0 | 2.0 | 192.0 | 0.07 | 13.05 | 186.7
Total | 433.0 | 315.0 | 2.8 | 895.0 | 0.33 | 295.22 | 118.0 | 1.9 | 219.0 | 0.09 | 19.80 | 315.0

Dated: June 19, 2019.
Brandon Lipps,
Administrator, Food and Nutrition Service.

[FR Doc. 2019-14030 Filed 7-1-19; 8:45 am]

BILLING CODE 3410-30-P